DEPARTMENT OF ENERGY

Federal Energy Regulatory Commission

Combined Notice of Filings # 1

March 13, 2008.

Take notice that the Commission received the following exempt wholesale generator filings:

Docket Numbers: EG08-32-000.

Applicants: Grand Ridger Energy LLC.

Description: Grand Ridger Energy LLC submits its Amended and Restated Notice of Self-Certification of Exempt Wholesale Generator Status.

Filed Date: 03/07/2008.

Accession Number: 20080313-0098.

Comment Date: 5 p.m. Eastern Time on Friday, March 28, 2008.

Docket Numbers: EG08-42-000.

Applicants: Invenergy Nelson, LLC.

Description: Invenergy Nelson, LLC submits Amended and Restated Notice of Self-Certification of Exempt Wholesale Generator Status.

Filed Date: 03/07/2008.

Accession Number: 20080313-0099.

Comment Date: 5 p.m. Eastern Time on Friday, March 28, 2008.

Docket Numbers: EG08-43-000.

Applicants: Turkey Track Energy Wind LLC.

Description: Turkey Track Energy Wind, LLC submits its amended and restated Notice of Self-Certification of Exempt Wholesale Generator Status.

Filed Date: 03/10/2008.

Accession Number: 20080313-0097.

Comment Date: 5 p.m. Eastern Time on Monday, March 31, 2008.

Docket Numbers: EG08-49-000.

Applicants: NRG Southaven LLC.

Description: Self Certification of Exempt Wholesale Generator Status of NRG Southaven LLC.

Filed Date: 03/12/2008.

Accession Number: 20080312-5139.

Comment Date: 5 p.m. Eastern Time on Wednesday, April 02, 2008.

Take notice that the Commission received the following electric rate filings:

Docket Numbers: ER04-432-005; ER04-433-005.

Applicants: Bangor Hydro-Electric Company; New England Power Pool

Description: ISO New England Inc submits a Report on Intra-zonal Deliverability. New England Power Pool et al.

Filed Date: 02/29/2008.

Accession Number: 20080306-0021.

Comment Date: 5 p.m. Eastern Time on Friday, March 21, 2008.

Docket Numbers: ER07-628-002; ER07-629-002; ER07-630-002.

Applicants: Entergy Services, Inc.

Description: Entergy Arkansas, Inc. submits report of refunds pursuant to FERC letter order of February 6, 2008.

Filed Date: 03/10/2008.

Accession Number: 20080312-0146.

Comment Date: 5 p.m. Eastern Time on Monday, March 31, 2008.

Docket Numbers: ER08-296-002.

Applicants: Midwest Independent Transmission System Operator, Inc.; Midwest ISO Transmission Owners.

Description: Midwest Independent Transmission System Operator, Inc. and Midwest ISO Transmission Owners submits proposed revisions to the Midwest ISO's Open Access Transmission and Energy Markets Tariff etc.

Filed Date: 03/03/2008.

Accession Number: 20080306-0024.

Comment Date: 5 p.m. Eastern Time on Monday, March 24, 2008.

Docket Numbers: ER05-349-004.

Applicants: Georgia Energy Cooperative.

Description: Georgia Energy Cooperative submits an amendment to the notice of non-material change in status and filing in compliance with Order 697.

Filed Date: 03/07/2008.

Accession Number: 20080312-0024.

Comment Date: 5 p.m. Eastern Time on Friday, March 28, 2008.

Docket Numbers: ER08-564-001.

Applicants: Vision Power Systems, Inc.

Description: Vision Power Systems Inc. submits supplemental documents following the discussion with staff on 3/3/08.

Filed Date: 03/05/2008.

Accession Number: 20080307-0074.

Comment Date: 5 p.m. Eastern Time on Wednesday, March 26, 2008.

Docket Numbers: ER08-596-001.

Applicants: PJM Interconnection, LLC.

Description: PJM Interconnection LLC submits amendment to Schedule 12 of the Restated and Restarted Operating Agreement to update their member list etc.

Filed Date: 03/11/2008.

Accession Number: 20080312-0134.

Comment Date: 5 p.m. Eastern Time on Tuesday, April 01, 2008.

Docket Numbers: ER08-649-000.

Applicants: EFS Parlin Holdings L.L.C.

Description: EFS Parlin Holdings LLC's application for Market-Based Rate Authority Request for Waivers and Pre-Approvals, and Request for Finding of Qualifications as Category 1 Seller.

Filed Date: 03/10/2008.

Accession Number: 20080311-0399.

Comment Date: 5 p.m. Eastern Time on Monday, March 31, 2008.

Docket Numbers: ER08-650-000.

Applicants: Mountain Wind Power, LLC.

Description: Petition of Mountain Wind Power LLC for order accepting market-based rate tariff for filing and granting waivers and blanket approvals and request for expedited action re Mountain Wind Power LLC.

Filed Date: 03/11/2008.

Accession Number: 20080312-0132.

Comment Date: 5 p.m. Eastern Time on Tuesday, April 01, 2008.

Docket Numbers: ER08-651-000.

Applicants: Ameren Energy Marketing Company.

Description: Ameren Energy Marketing Company submits an application to make power sales to its affiliates, the Ameren Illinois Utilities.

Filed Date: 03/11/2008.

Accession Number: 20080312-0135.

Comment Date: 5 p.m. Eastern Time on Tuesday, March 25, 2008.

Docket Numbers: ER08-652-000.

Applicants: California Independent System Operator Corporation.

Description: California Independent System Operator Corporation submits Notice of Termination of the Participating Generator Agreement with the Northern California Power Agency, to become effective 1/1/00.

Filed Date: 03/11/2008.

Accession Number: 20080312-0131.

Comment Date: 5 p.m. Eastern Time on Tuesday, April 01, 2008.

Docket Numbers: ER08-653-000.

Applicants: Union Electric Company.

Description: Union Electric Company submits an application to make power sales to its affiliates the Ameren Illinois Utilities.

Filed Date: 03/11/2008.

Accession Number: 20080312-0130.

Comment Date: 5 p.m. Eastern Time on Tuesday, March 25, 2008.

Docket Numbers: ER08-654-000.

Applicants: California Independent System Operator Corporation.

Description: California Independent System Operator Corp et al submits an unexecuted Large Generator Interconnection Agreement with Nevada Hydro Co., Inc.

Filed Date: 03/11/2008.

Accession Number: 20080312-0129.

Comment Date: 5 p.m. Eastern Time on Tuesday, April 01, 2008.

Docket Numbers: ER08-655-000.

Applicants: California Independent System Operator Corporation.

Description: California Independent System Operator Corp submits an amendment to the amended and restated Metered Subsystem Aggregator Agreement with Northern California Power Agency.

Filed Date: 03/11/2008.

Accession Number: 20080313-0065.

Comment Date: 5 p.m. Eastern Time on Tuesday, April 01, 2008.

Docket Numbers: ER08-656-000.

Applicants: Shell Energy North America (U.S.), LP.

Description: Petition of Shell Energy North America (U.S.) LP for order accepting market-based rate tariff for filing, granting waivers and blanket approvals, and request for expedited action.

Filed Date: 03/11/2008.

Accession Number: 20080313-0067.

Comment Date: 5 p.m. Eastern Time on Tuesday, April 01, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E8-5536 Filed 3-18-08; 8:45 am]

BILLING CODE 6717-01-P